NUCLEAR REGULATORY COMMISSION

Regulatory Guide; Issuance, Availability

The Nuclear Regulatory Commission has issued a revision to a guide in its Regulatory Guide Series. This series has been developed to describe and make available to the public such information as methods acceptable to the NRC staff for implementing specific parts of the Commission's regulations, techniques used by the staff in evaluating specific problems or postulated accidents, and data needed by the staff in its review of applications for permits and licenses.

Revision 1 of Regulatory Guide 1.54, “Service Level I, II, and III Protective Coatings Applied to Nuclear Power Plants,” provides guidance on practices and programs that are acceptable to the NRC staff for the selection, application, qualification, inspection, and maintenance of protective coatings applied in nuclear power plants. This guide endorses multiple standards of the American Society for Testing and Materials to provide this guidance.

Comments and suggestions in connection with items for inclusion in guides currently being developed or improvements in all published guides are encouraged at any time. Written comments may be submitted to the Rules and Directives Branch, Division of Administrative Services, Office of Administration, U.S. Nuclear Regulatory Commission, Washington, DC 20555. For further information on the guide, contact A.W. Serkiz at (301) 415-6563 or by email at <AWS@NRC.GOV>.

Regulatory guides are available for inspection at the Commission's Public Document Room, 2120 L Street NW., Washington, DC. Recent regulatory guides, both draft and active, may be read or downloaded from the NRC website at http://www.nrc.gov. Single copies of regulatory guides may be obtained free of charge by writing the Reproduction and Distribution Services Section, OCIO, U.S. Nuclear Regulatory Commission, Washington, DC 20555-0001, or by fax to (301) 415-2289, or by email to <DISTRIBUTION@NRC.GOV>. Issued guides may also be purchased from the National Technical Information Service on a standing order basis. Details on this service may be obtained by writing NTIS, 5285 Port Royal Road, Springfield, VA 22161. Regulatory guides are not copyrighted, and Commission approval is not required to reproduce them.

(5 U.S.C. 552(a))

Dated at Rockville, Maryland, this 6th day of July 2000.
For the Nuclear Regulatory Commission.
Margaret V. Federline,
Deputy Director, Office of Nuclear Regulatory Research.

[FR Doc. 00-18030 Filed 7-14-00; 8:45 am]

BILLING CODE 7590-01-P